DEPARTMENT OF THE INTERIOR

Bureau of Land Management

[AZ 020-03-1430-EU; AZA-29606]

Termination of Classification and, Opening Order; Arizona

AGENCY: Bureau of Land Management, Interior.

ACTION: Notice of realty action.

SUMMARY: This notice terminates a portion of a Recreation and Public Purposes Act, classification on 40.00 acres, as this classification is no longer needed.

EFFECTIVE DATE: October 15, 2003.

FOR FURTHER INFORMATION CONTACT: Jim Andersen, BLM Phoenix Field Office, 21605 North 7th Avenue, Phoenix, Arizona 85027, 623-580-5500.

SUPPLEMENTARY INFORMATION: A decision was issued on May 22, 1996, which classified the following described public lands as suitable for entry under the Recreation and Public Purposes Act of June 14, 1926, as amended (43 U.S.C. 869 et seq.):

Gila and Salt River Meridian, Arizona

T. 14 N., R. 1 W.

Sec 28, NE¼NE¼.

The Town of Prescott Valley (Town) applied for a lease on these public lands. On September 17, 2002 a decision was issued rejecting the application, because the Town had failed to provide the BLM with an adequate Plan of Development. The Town concurred with the decision because it did not have funding to go forward with the proposal. Federal regulations require that the classification on the lands be terminated and that the lands be once again opened to the public land laws.

The lands were segregated from location and entry under the general land laws, including the mining laws, subject to valid existing rights. Both the classification and the segregation are hereby terminated.

These lands will be opened to operation of the public land laws, including the mining laws, subject to valid existing rights, the provisions of existing withdrawals, other segregations of record and the requirements of applicable law October 15, 2003.

Teresa A. Raml,
Field Manager, Phoenix Field Office.

[FR Doc. 03-23439 Filed 9-12-03; 8:45 am]

BILLING CODE 4310-32-P